DEPARTMENT OF THE INTERIOR

Bureau of Indian Affairs

[245A2100DD/AAK3003100/A0C904040.99990]

Annual Meeting of Federal Partners and Tribal 477 Workgroup Under Indian Employment, Training and Related Services Act of 2017

AGENCY: Bureau of Indian Affairs, Interior.

ACTION: Notice of meeting.

SUMMARY: The Department of the Interior, Bureau of Indian Affairs (BIA), is announcing the annual meeting of Federal agencies and Tribes that participate in the Indian Employment, Training, and Related Services Act of 2017, as amended known as the “Public Law 477 Work Group.”

DATES:

• Meeting: The annual Federal partner and Tribal Public Law 477 Work Group meeting will be held on August 29, 2024, from 1 p.m. to 4 p.m. ET. Please see SUPPLEMENTARY INFORMATION below for details on how to participate.

• Comments: Interested persons are invited to submit comments on or before October 7, 2024. Please see ADDRESSES below for details on how to submit written comments.

ADDRESSES: Send your comments to Genevieve Giaccardo, Deputy Bureau Director, Indian Services, Bureau of Indian Affairs, 1849 C Street NW, MS-3645-MIB, Washington, DC 20240; or by email to Genevieve.Giaccardo@bia.gov. Please reference the Public Law 477 Work Group in the subject line of your email.

FOR FURTHER INFORMATION CONTACT: Genevieve Giaccardo, Deputy Bureau Director, Indian Services, Bureau of Indian Affairs, 1849 C Street NW, MS-3645-MIB, Washington, DC 20240, Genevieve.Giaccardo@bia.gov; (202) 513-7642.

SUPPLEMENTARY INFORMATION: This meeting is being held under the authority of Public Law 102-477, as amended (25 U.S.C. 3410(a)(3)(B)(i)), and section 2 of the interdepartmental memorandum of agreement (MOA), signed by Secretary Haaland on September 12, 2022.

In 2017, Congress enacted the Indian Employment Training and Related Services Consolidation Act of 2017, Public Law 115-93, codified at 25 U.S.C. 3401-3417 (“2017 Act”). The 2017 Act amended the Indian Employment and Related Services Demonstration Act of 1992, Public Law 102-477, in part, by expanding coverage to include 12 Federal agencies.

Under the 2017 Act, Tribes may propose to integrate eligible grant programs from the Departments of the Interior, Agriculture, Commerce, Education, Energy, Health & Human Services, Homeland Security, Housing & Urban Development, Justice, Labor, Transportation, and Veterans Affairs. This allows Tribes to consolidate and reprogram grant funds in accordance with a single plan, budget, and report approved by the Secretary of the Interior (477 Plan). As required by the 2017 Act, the Department of the Interior entered into a MOA among the 12 Federal agencies to implement Public Law 477. Each of the 12 Federal agencies signed a renegotiated MOA in the fall of 2022.

The Department of the Interior (DOI) is the lead agency responsible for implementing Public Law 102-477, and the Secretary of the Interior delegated that responsibility to BIA. BIA announces the annual meeting of participating Tribes and Federal agencies. As directed by statute, the meeting will be co-chaired by the Assistant Secretary—Indian Affairs Bryan Newland and the Public Law 477 Work Group Tribal Chairs Margaret Zientek (contiguous 48 States) and Holly Morales (Alaska). 25 U.S.C. 3410(a)(3)(B)(i).

Meeting Agenda

1. Opening Remarks

2. Status of the Implementation of Revised MOA

3. Status of Labor Force Report—U.S. Dept. of Labor

4. Summary Status of Tribes Participating in the Public Law 477 Work Group (FY 2023)

A. Public Law 102-477 Programs Integrated

B. Plan Approval/Denial Process

C. Waiver Approvals/Denials- list

D. Fund Transfers

E. Annual Reports—Annual Report Roll Up/Statistical and Financial Summary

F. Update on OMB 1076-0135 (version 2) Reporting Form (extended to 02-28-24)

5. 2023 Report(s) from the 12 Federal Partners

6. Miscellaneous

A. Establish Annual Meeting and Bi-Monthly Meeting Between Tribes and Federal Agencies

B. Discussion on New Annual Report Implementation Timeline

C. Discussion on Federal Fund Transfer of Existing or Prior Year Grant Funds

D. Forum and Discussion Regarding Conflict Resolution

7. Adjourn

Meeting Access

• Physical Access: The meeting will be conducted in the North Penthouse of the Stewart Lee Udall Department of the Interior Building, 1849 C Street NW, Washington, DC 20240. Members of the public are required to present a valid government-issued photo ID to enter the building and are subject to security screening, including bag and parcel checks.

• Virtual Meeting Access: To join and participate in the meeting via Zoom, please register in advance using the following Zoom link: https://www.zoomgov.com/j/1618012499?pwd=fRV7vLNtBpeNGqvmlnsdKpTb4hM63d.1.

• Audio Meeting Access: To join and participate in the meeting by telephone, please use the following dial-in information: Phone Number: (609) 254-5252, Meeting ID: 161 801 2499, Passcode: 158403.

• Special Accommodations: Please make requests in advance for sign language interpreter services, assistive listening devices, or other reasonable accommodations. We ask that you contact the person listed in the FOR FURTHER INFORMATION CONTACT section of this notice at least 7-business days prior to the meeting to give DOI sufficient time to process your request. All reasonable accommodation requests are managed on a case-by-case basis.

Authority: This notice is published in accordance with 25 U.S.C. 3410(a)(3)(B)(i).

Bryan Newland,
Assistant Secretary—Indian Affairs.

[FR Doc. 2024-17326 Filed 8-5-24; 8:45 am]

BILLING CODE 4337-15-P